DEPARTMENT OF ENERGY

Federal Energy Regulatory Commission

Combined Notice of Filings #1

Take notice that the Commission received the following electric corporate filings:

Docket Numbers: EC18-88-000.

Applicants: Calpine Corporation, CPPIB Calpine Canada Inc.

Description: Application for Authorization Under Section 203 of the Federal Power Act of Calpine Corporation, et al.

Filed Date: 4/23/18.

Accession Number: 20180423-5228.

Comments Due: 5 p.m. ET 5/14/18.

Take notice that the Commission received the following electric rate filings:

Docket Numbers: ER18-1420-000.

Applicants: California Independent System Operator Corporation.

Description: § 205(d) Rate Filing: 2018-04-23 Certificate of Concurrence for ARES Nevada UFA to be effective 3/13/2018.

Filed Date: 4/23/18.

Accession Number: 20180423-5205.

Comments Due: 5 p.m. ET 5/14/18.

Docket Numbers: ER18-1421-000.

Applicants: RE Garland LLC.

Description: § 205(d) Rate Filing: RE Garland Concurrence Filing to Amended Shared Facilities Agreement to be effective 4/21/2018.

Filed Date: 4/23/18.

Accession Number: 20180423-5208.

Comments Due: 5 p.m. ET 5/14/18.

Docket Numbers: ER18-1422-000.

Applicants: RE Garland A LLC.

Description: § 205(d) Rate Filing: RE Garland A Concurrence Filing to Amended Shared Facilities Agreement to be effective 4/21/2018.

Filed Date: 4/23/18.

Accession Number: 20180423-5210.

Comments Due: 5 p.m. ET 5/14/18.

Docket Numbers: ER18-1423-000.

Applicants: RE Gaskell West 1 LLC.

Description: § 205(d) Rate Filing: RE Gaskell West 1 Concurrence Filing to Amended Shared Facilities Agreement to be effective 4/21/2018.

Filed Date: 4/23/18.

Accession Number: 20180423-5211.

Comments Due: 5 p.m. ET 5/14/18.

Docket Numbers: ER18-1424-000.

Applicants: Rio Bravo Fresno, A California Joint Venture.

Description: Baseline eTariff Filing: Baseline new to be effective 4/23/2018.

Filed Date: 4/23/18.

Accession Number: 20180423-5214.

Comments Due: 5 p.m. ET 5/14/18.

Docket Numbers: ER18-1425-000.

Applicants: RE Gaskell West 1 LLC.

Description: § 205(d) Rate Filing: RE Gaskell West 1 Concurrence Filing to LGIA Co-Tenancy Agreement to be effective 4/21/2018.

Filed Date: 4/23/18.

Accession Number: 20180423-5216.

Comments Due: 5 p.m. ET 5/14/18.

Docket Numbers: ER18-1426-000.

Applicants: Southwest Power Pool, Inc.

Description: § 205(d) Rate Filing: Tariff Clean-Up Filing 2Q2018 to be effective 7/1/2018.

Filed Date: 4/23/18.

Accession Number: 20180423-5217.

Comments Due: 5 p.m. ET 5/14/18.

Docket Numbers: ER18-1427-000.

Applicants: Rio Bravo Rocklin, A California Joint Venture.

Description: Baseline eTariff Filing: Baseline new to be effective 4/23/2018.

Filed Date: 4/23/18.

Accession Number: 20180423-5218.

Comments Due: 5 p.m. ET 5/14/18.

Docket Numbers: ER18-1428-000.

Applicants: Midcontinent Independent System Operator, Inc.

Description: § 205(d) Rate Filing: 2018-04-24_Termination of SA 3007 ATC-Upper Michigan E&P Agreement (J703) to be effective 4/25/2018.

Filed Date: 4/24/18.

Accession Number: 20180424-5007.

Comments Due: 5 p.m. ET 5/15/18.

Docket Numbers: ER18-1429-000.

Applicants: Midcontinent Independent System Operator, Inc.

Description: § 205(d) Rate Filing: 2018-04-24_Termination of SA 3008 ATC-Upper Michigan E&P Agr (J704) to be effective 4/25/2018.

Filed Date: 4/24/18.

Accession Number: 20180424-5008.

Comments Due: 5 p.m. ET 5/15/18.

Docket Numbers: ER18-1430-000.

Applicants: Skylar Energy Resources LLC.

Description: Baseline eTariff Filing: Application for Market-Based Rate Authorization and Request for Waivers to be effective 4/25/2018.

Filed Date: 4/24/18.

Accession Number: 20180424-5075.

Comments Due: 5 p.m. ET 5/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2018.
Kimberly D. Bose,
Secretary.

[FR Doc. 2018-09037 Filed 4-27-18; 8:45 am]

BILLING CODE 6717-01-P